DEPARTMENT OF ENERGY

Federal Energy Regulatory Commission

[Docket No. RM06-16-000]

Mandatory Reliability Standards for the Bulk-Power System; Notice of Comment Period

May 11, 2006.

On April 4, 2006, the North American Electric Reliability Council, on behalf of its wholly-owned subsidiary, the North American Electric Reliability Corporation (NERC), filed 102 proposed Reliability Standards for Commission approval, subject to its application for certification as the Electric Reliability Organization (ERO) pursuant to section 215 of the Federal Power Act (FPA).

Concurrent with this notice, the Commission today released a staff preliminary assessment of the proposed Reliability Standards. This assessment is a preliminary technical analysis by staff and does not offer legal conclusions or recommend any particular action to be taken by the Commission. The Commission will issue a Notice of Proposed Rulemaking (NOPR) with its proposals on each Reliability Standard after receiving comments on the staff preliminary assessment. Interested persons will also have an opportunity to file comments on the NOPR.

NERC should respond to this preliminary assessment by June 26, 2006. We also invite other interested persons to file comments on the staff preliminary assessment by the comment date. Comments should respond to individual Reliability Standards in the format used in the preliminary assessment.

The Commission encourages electronic submission of comments using the “eFiling” link at http://www.ferc.gov. Persons unable to file electronically should submit an original and 14 copies of their comments to the Secretary of the Commission, Federal Energy Regulatory Commission, 888 First Street, NE., Washington, DC 20426.

The staff preliminary assessment is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 26, 2006.

Magalie R. Salas,
Secretary.

[FR Doc. E6-7548 Filed 5-17-06; 8:45 am]

BILLING CODE 6717-01-P